DEPARTMENT OF JUSTICE

Notice of Lodging of Consent Decree Under Comprehensive Environmental Response, Compensation and Liability Act

Under 28 CFR 50.7, notice is hereby given that on November 6, 2009, two proposed and related Consent Decrees in United States v. Carlyle Manufacturing Co., Inc., et al., No. 3:09-1784, and United States v. Timothy Fidgeon as Trustee of the WALC Liquidating Trust, No. 3:09-1780, were lodged with the United States District Court for the District of Connecticut.

The proposed Consent Decrees resolve claims of the United States, on behalf of the Environmental Protection Agency (“EPA”), under the Comprehensive Environmental Response, Compensation, and Liability Act (“CERCLA”), 42 U.S.C. 9601 et seq., in connection with the Solvents Recovery Service of New England, Inc. Superfund Site in Southington, Connecticut (“Site”), against three defendants.

The proposed Consent Decree in U.S. v. United States v. Carlyle Manufacturing Co., Inc., et al., requires Carlyle Manufacturing Co., Inc. to pay the proceeds of an insurance coverage claim which has a value estimated at $25,000, and for Lukon Inc. to pay $200,000. The proposed Consent Decree in U.S. v. Timothy Fidgeon as Trustee of the WALC Liquidating Trust requires the sole settlor to pay $907,000.

Both Consent Decrees provide that the settlors are entitled to contribution protection as provided by Section 113(f)(2) of CERCLA, 42 U.S.C. 9613(f)(2), for matters addressed by the settlements.

The Department of Justice will receive for a period of 30 days from the date of this publication comments relating to the proposed Consent Decrees. Comments should be addressed to the Assistant Attorney General of the Environment and Natural Resources Division, Department of Justice, Washington, DC 20530, and either e-mailed to pubcomment-ees.enrd@usdoj.gov or mailed to P.O. Box 7611, U.S. Department of Justice, Washington, DC 20044-7611, and should refer to: (1) United States v. Carlyle Manufacturing Co., Inc., et al., No. 3:09-1784, D.J. No. 90-7-1-23/9; or (2) and United States v. Timothy Fidgeon as Trustee of the WALC Liquidating Trust, No. 3:09-1780, D.J. No. 90-7-1-23/12. Commenters may request an opportunity for a public meeting in the affected area, in accordance with Section 7003(d) of RCRA, 42 U.S.C. 6973(d).

The proposed Consent Decrees may be examined at the Office of the United States Attorney, District of Connecticut, Connecticut Financial Center, 157 Church Street, New Haven, CT 06510. During the public comment period, the proposed Consent Decrees may also be examined on the following Department of Justice Web site, http://www.usdoj.gov/enrd/Consent_Decrees.html. Copies of the proposed Consent Decrees may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of either of the proposed Consent Decrees, please enclose a check in the amount of $10.25 for the United States v. Carlyle Manufacturing Co., Inc., et al., settlement (25 cent per page reproduction cost), and/or $9.25 for the United States v. Timothy Fidgeon as Trustee of the WALC Liquidating Trust settlement, payable to the U.S. Treasury.

Maureen Katz,
Assistant Section Chief, Environmental Enforcement Section, Environment and Natural Resources Division.

[FR Doc. E9-27232 Filed 11-12-09; 8:45 am]

BILLING CODE 4410-15-P